DEPARTMENT OF ENERGY

Federal Energy Regulatory Commission

[Docket No. EL13-83-000]

Midcontinent Independent System Operator, Inc.; Notice of Initiation of Proceeding and Refund Effective Date

On September 9, 2013, the Commission issued an order that initiated a proceeding in Docket No. EL13-83-000, pursuant to section 206 of the Federal Power Act (FPA), 16 U.S.C. 824e (2006), to determine the justness and reasonableness of the proposed revisions to Schedules 7, 8, and 9 of Midcontinent Independent System Operator, Inc.'s existing tariff. Prairie Power, Inc., et al., 144 FERC ¶ 61,193 (2013).

The refund effective date in Docket No. EL13-83-000, established pursuant to section 206(b) of the FPA, will be the date of publication of this notice in the Federal Register.

Dated: September 10, 2013.
Nathaniel J. Davis, Sr.,
Deputy Secretary.

[FR Doc. 2013-22520 Filed 9-16-13; 8:45 am]

BILLING CODE 6717-01-P